DEPARTMENT OF THE INTERIOR

Bureau of Land Management

[UT-020-00-1220-00]

Notice of Closure of Public Lands

AGENCY: Bureau of Land Management, Interior.

ACTION: Notice of Closure of Certain Public Lands in Box Elder County, Utah to Off Road Vehicle Use.

SUMMARY: Notice is hereby given that effective immediately, selected public lands administered by the Bureau of Land Management (BLM), Salt Lake Field Office, within western Box Elder County are closed to off road vehicle (ORV) (also commonly referred to as off highway vehicle—OHV) use on an interim emergency basis. This action will allow BLM to address concerns related to unrestricted cross country travel in the specific places where we now have resource damage. The purpose of this closure is to protect wildlife, wildlife habitat, rangeland resources, soil, vegetation, cultural resources, historical resources, and other resources from ongoing and imminent adverse impacts from ORV use. Exemptions to this closure will apply for administrative and management purposes for the Bureau of Land Management, BLM authorized permittees, and law enforcement personnel. Other exemptions to this closure order may be made on a case by case basis by the authorized officer. This emergency closure will remain in effect until BLM completes a land use plan amendment for OHV management.

FOR FURTHER INFORMATION CONTACT: Alice Stephenson, Environmental Coordinator, Bureau of Land Management, Salt Lake Field Office, 2370 S. 2300 W., Salt Lake City, UT 84119, telephone (801) 977-4300.

SUPPLEMENTARY INFORMATION: As an interim measure, BLM is joining Box Elder County, the U.S. Forest Service and the State of Utah Sovereign Lands in imposing restrictions for OHV use on public lands in western Box Elder County. The BLM is temporarily closing selected public lands to off highway vehicle use consistent with the County's access road management plan and related map. The new restrictions for public lands, which are identified on the map, include full closure of very limited lands, seasonal closures of specific lands and closures to cross country travel for certain lands. This plan was adopted on July 7, 1998, by the Box Elder County Commission as Ordinance No. 222 which applies to western Box Elder County. This ordinance is the product of recommendations made by the West Box Elder Access Management Team with extensive public involvement and support from BLM, State Sovereign Lands, and the U.S. Forest Service (USFS). With this interim emergency action, BLM joins the County, USFS and State Sovereign Lands in providing consistent OHV management in western Box Elder County regardless of land ownership. Without this action, and because all other lands in western Box Elder County have OHV restrictions, BLM public lands, which are currently open to OHV use without restriction, would be subject to increasing impacts from OHV use. These closures are a temporary action to protect public lands and resources until BLM completes the proposed plan amendment for off-highway vehicle designations for public lands in Box Elder County, Notice of Intent published April 15, 1997. Imposing the OHV use restrictions will protect wildlife, wildlife habitat, soil, vegetation, cultural resources, historical resources, and other resources from damage by off-highway vehicles (OHVs). This closure shall not be construed as a limitation on BLM's future planning and off-highway vehicle route designations.

The referenced map and ordinance is available for review at the above address and at the Box Elder County Mapping Department.

The authority for this closure is 43 CFR 8341.2 and 43 CFR 8364.1. Violations of this closure are punishable by a fine not to exceed $1,000 and/or imprisonment not to exceed 12 months as provided in 43 CFR 8360.0-7.

Sally Wisely,
State Director.

[FR Doc. 00-7551 Filed 3-27-00; 8:45 am]

BILLING CODE 4310-DQ-P